NATIONAL AERONAUTICS AND SPACE ADMINISTRATION

[Notice: (14-039)]

NASA Advisory Council; Science Committee; Planetary Protection Subcommittee; Meeting

AGENCY: National Aeronautics and Space Administration.

ACTION: Notice of meeting.

SUMMARY: In accordance with the Federal Advisory Committee Act, Public Law 92-463, as amended, the National Aeronautics and Space Administration (NASA) announces a meeting of the Planetary Protection Subcommittee (PPS) of the NASA Advisory Council (NAC). This Subcommittee reports to the Science Committee of the NAC. The meeting will be held for the purpose of soliciting, from the scientific community and other persons, scientific and technical information relevant to program planning.

DATES: Tuesday, May 20, 2014, 8:00 a.m.-5:00 p.m., and Wednesday, May 21, 2014, 9:45 a.m.-4:30 p.m., Local Time.

ADDRESSES: NASA Headquarters, Room 3D42, 300 E Street SW., Washington, DC 20546.

FOR FURTHER INFORMATION CONTACT: Ann Delo, Science Mission Directorate, NASA Headquarters, Washington, DC 20546, (202) 358-0750, fax (202) 358-2779, or ann.b.delo@nasa.gov.

SUPPLEMENTARY INFORMATION: The meeting will be open to the public up to the capacity of the room. The meeting will be available telephonically and by WebEx. Any interested person may call the USA toll free conference call number 888-603-9625, passcode 4599, to participate in this meeting by telephone. Please note, the conference call number and password is the same for both days of this meeting, May 20 and May 21, 2014. The WebEx link is https://nasa.webex.com/; the meeting number for May 20, 2014 is 997 873 342, password PSS@May2014, and the meeting the number for May 21, 2014 is 998 038 108, password PSS@May2014. The agenda for the meeting includes the following topics:

—Update on NASA Planetary Protection Activities

—Mars Curiosity Lessons Learned Responses

—Contamination Limits for Planetary Life Detection

—Status of InSight Project Compliance

—European Space Agency/ExoMars

Attendees will be requested to sign a register and to comply with NASA security requirements, including the presentation of a valid picture ID to Security before access to NASA Headquarters. Foreign nationals attending this meeting will be required to provide a copy of their passport and visa in addition to providing the following information no less than 10 working days prior to the meeting: full name; gender; date/place of birth; citizenship; visa information (number, type, expiration date); passport information (number, country, expiration date); employer/affiliation information (name of institution, address, country, telephone); title/position of attendee; and home address to Ann Delo via email at ann.b.delo@nasa.gov or by fax at (202) 358-2779. U.S. citizens and Permanent Residents (green card holders) are requested to submit their name and affiliation 3 working days prior to the meeting to Ann Delo. It is imperative that the meeting be held on this date to accommodate the scheduling priorities of the key participants.

Patricia D. Rausch,
Advisory Committee Management Officer, National Aeronautics and Space Administration.

[FR Doc. 2014-09635 Filed 4-28-14; 8:45 am]

BILLING CODE 7510-13-P